DEPARTMENT OF THE INTERIOR

National Park Service

National Register of Historic Places; Notification of Pending Nominations

Nominations for the following properties being considered for listing in the National Register were received by the National Park Service before May 15, 2004. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by June 18, 2004.

Carol D. Shull,
Keeper of the National Register of Historic Places.

CALIFORNIA

Alameda County

LeConte Hall, Hearst and Gayley, Berkeley, 04000622.

Los Angeles County

General Petroleum Building, 612 S. Flower St., Los Angeles, 04000621.

Southern California Gas Company Complex, 800, 810, 820 and 830 S. Flower St., Los Angeles, 04000623.

Mendocino County

Babcock, Dr. Raymond, House, 96 S. Humboldt St., Willits, 04000620.

COLORADO

El Paso County

Evans, J.G., Barn, Hodgen Rd., Black Forest, 04000624.

DISTRICT OF COLUMBIA

District of Columbia

2nd Baptist Church, 816 3rd St. NW., Washington, 04000625.

FLORIDA

Volusia County

Stockton—Lindquist House, 244 E. Beresford Ave., DeLand, 04000626.

GEORGIA

Bibb County

Williams, Lucas, Field, 225 Willie Smokey Glover Blvd., Central City Park, Macon, 04000627.

Murray County

Murray County High School Historic District, 1004 Green St., Chatsworth, 04000628.

INDIANA

Allen County

Haynes, John and Dorothy, House, 3901 N. Washington Rd., Fort Wayne, 04000635.

Hendricks County

McClain, John W., House, 1445 S. Cty rd. 525 E, Avon, 04000633.

Marion County

Hill, John Fitch, House, 1523 Southeastern Ave., Indianapolis, 04000634.

Johnson's, Oliver, Woods Historic District, Roughly bounded by Central and College Aves., 44th and 46th Sts., Indianapolis, 04000632.

Rivoli Theater, 3155 E. 10th St., Indianapolis, 04000630.

Randolph County

Union City Public Library, 408 N. Columbia St., Union City, 04000631.

Switzerland County

Thiebaud Farmstead, 531 IN 56, Vevay, 04000629.

LOUISIANA

Jefferson Davis Parish

More Mileage Gas Station, 602 North Main, Jennings, 04000637.

Vernon Parish

Burr's Ferry Earthworks, LA 8, Leesville, 04000636.

West Baton Rouge Parish

Cohn High School, 805 N 14th St., Port Allen, 04000638.

MICHIGAN

Isabella County

Sherman City Union Church, Sherman Rd at Allen Rd., Sherman City, 04000645.

Midland County

Boonstra, Mr. and Mrs Frank, House, (Residential Architecture of Alden B. Dow in Midland, Michigan MPS AD) 1401 Helen St., Midland, 04000644.

Butenschoen, Mr. and Mrs. Louis P., House, (Residential Architecture of Alden B. Dow in Midland, Michigan MPS AD) 1212 Helen St., Midland, 04000643.

Campbell, Calvin A. and Alta Koch, House, (Residential Architecture of Alden B. Dow in Midland, Michigan MPS AD) 1210 W. Park Dr., Midland, 04000642.

Irish, Donald and Louise Clark, House, (Residential Architecture of Alden B. Dow in Midland, Michigan MPS AD) 1801 W. Sugnet Rd., Midland, 04000641.

Penhaligen, Charles and Mary Kempf, House, (Residential Architecture of Alden B. Dow in Midland, Michigan MPS AD) 1203 W. Sugnet Rd., Midland, 04000640.

Reinke, Mr. and Mrs. Robert C., House, (Residential Architecture of Alden B. Dow in Midland, Michigan MPS AD) 33 Lexington Court, Midland, 04000639.

NEW JERSEY

Essex County

Military Park Commons Historic District, Roughly bounded by Washington Pl., McCarter Hwy, E. Park St. and Raymond Blvd., Newark, 04000649.

NORTH CAROLINA

Ashe County

Elkland School Gymnasium, 10279 Three Top Rd., NC 1100 at jct. of NC 194, Todd, 04000646.

Bertie County

Bertie Memorial Hospital, 401 Sterlingworth St., Windsor, 04000647.

Lenoir County

Kinston Apartments, 1313 McAdoo St., Kinston, 04000648.

SOUTH CAROLINA

Barnwell County

Ashley—Willis House, 312 W. Main St., Williston, 04000650.

Beaufort County

Scheper, F.W., Store, 918 8th St., Port Royal, 04000652.

Charleston County

Bethel African Methodist Episcopal Church, 369 Drayton St., McClellanville, 04000651.

WISCONSIN

Fond Du Lac County

Southwest Historic District, 115 Belleville, parts of Grove, Lincoln, Newbury, Oak, Ransom, W. Sullivan, Thorne, Watertown, and Watson St., and Woodside-Ripon, 04000653.

On May 13, 2004, the following resource was removed from the National Register of Historic Places; determined eligible for the National Register of Historic Places:

CALIFORNIA

Monterey County

Monterey County Jail, 142 West Alisal Street, Salinas, 03000337.

A request for removal has been made for the following resources:

IOWA

Buchanan County

Otter Creek Bridge, (Highway Bridges of Iowa MPS), 105th St. Over Otter Cr., Hazleton vicinity 98000757.

KENTUCKY

Pendleton County

Oldman Plantation, (Falmouth MRA), KY 159, Falmouth 83002855.

[FR Doc. 04-12596 Filed 6-2-04; 8:45 am]

BILLING CODE 4312-51-P